DEPARTMENT OF DEFENSE

GENERAL SERVICES ADMINISTRATION

NATIONAL AERONAUTICS AND SPACE ADMINISTRATION

48 CFR Chapter 1

[Docket FAR—2007-0002, Sequence 1]

Federal Acquisition Regulation; Federal Acquisition Circular 2005-16; Introduction

AGENCIES: Department of Defense (DoD), General Services Administration (GSA), and National Aeronautics and Space Administration (NASA).

ACTION: Summary presentation of interim and final rules.

SUMMARY: This document summarizes the Federal Acquisition Regulation (FAR) rules agreed to by the Civilian Agency Acquisition Council and the Defense Acquisition Regulations Council in this Federal Acquisition Circular (FAC) 2005-16. A companion document, the Small Entity Compliance Guide (SECG), follows this FAC. The FAC, including the SECG, is available via the Internet at http://www.regulations.gov.

DATES: For effective dates and comment dates, see separate documents, which follow.

FOR FURTHER INFORMATION CONTACT: The analyst whose name appears in the table below in relation to each FAR case or subject area. Please cite FAC 2005-16 and specific FAR case number(s). For information pertaining to status or publication schedules, contact the FAR Secretariat at (202) 501-4755.

List of Rules in FAC 2005-16
Item | Subject | FAR case | Analyst
I | Implementation of Wage Determinations OnLine (WDOL) | 2005-033 | Woodson.
II | Termination or Cancellation of Purchase Orders | 2005-029 | Jackson.
III | Contracts with Religious Entities (Interim) | 2006-019 | Woodson.
IV | Contract Terms and Conditions Required to Implement Statute or Executive Orders—Commercial Items | 2006-012 | Jackson.

SUPPLEMENTARY INFORMATION: Summaries for each FAR rule follow. For the actual revisions and/or amendments to these FAR cases, refer to the specific item number and subject set forth in the documents following these item summaries.

FAC 2005-16 amends the FAR as specified below:

Item I—Implementation of Wage Determinations OnLine (WDOL) (FAR Case 2005-033)

This final rule implements the Department of Labor (DOL) Wage Determinations OnLine (WDOL) Internet website as the source for Federal contracting agencies to obtain wage determinations issued by the DOL for service contracts subject to the McNamara-O'Hara Service Contract Act (SCA) and for construction contracts subject to the Davis-Bacon Act (DBA). The rule amends the FAR to direct Federal contracting agencies to obtain DBA and SCA wage determinations from the WDOL website.

The WDOL and e98 processes replace the paper Standard Forms 98 and 98a. In addition, Standard Forms 98, 98a, and 99 are deleted from FAR Part 53. This final rule also incorporates new geographical jurisdictions for DOL's Wage and Hour Regional Offices and eliminates FAR references to the Government Printing Office publication of general wage determinations.

Item II—Termination or Cancellation of Purchase Orders (FAR Case 2005-029)

The rule revises the Federal Acquisition Regulation (FAR) to correct the inadvertent omission of an appropriate reference in FAR Part 13.302-4(a) for termination for cause of those purchase orders that have been accepted in writing. This FAR revision is a correction to a reference and not a change to the contract termination options available in 52.212-4(l) or (m). If a purchase order that has been accepted in writing by the contractor is to be terminated, contracting officers have the option to terminate for cause as well as terminate for convenience.

Item III—Contracts with Religious Entities (FAR Case 2006-019) (Interim)

This interim rule amends FAR Subpart 22.8, Equal Employment Opportunity, and the associated clause at 52.222-26, Equal Opportunity, to add an exemption for religious entities to the prohibition of discrimination on the basis of religion. Executive Order (E.O.) 13279 amended Section 204 of E.O. 11246 to permit religious entities to consider employment of individuals of a particular religion to perform work connected with carrying on the entity's activities. Religious entities remain subject to other Equal Employment Opportunity requirements. When awarding a contract to a religious entity that contains the clause at FAR 52.222-26, Equal Opportunity, the requirements of the clause with respect to employment of individuals of a particular religion to perform work connected with the carrying on of the contractor's activities do not apply to a contractor that is a religious corporation, association, educational institution, or society.

Item IV—Contract Terms and Conditions Required to Implement Statute or Executive Orders—Commercial Items (FAR Case 2006-012)

The final rule revises the Federal Acquisition Regulation (FAR) to update the required contract clauses that implement provisions of law or executive orders for acquisitions of commercial items.

Dated: March 15, 2007.
Ralph De Stefano,
Director, Contract Policy Division.

Federal Acquisition Circular

Federal Acquisition Circular (FAC) 2005-16 is issued under the authority of the Secretary of Defense, the Administrator of General Services, and the Administrator for the National Aeronautics and Space Administration.

Unless otherwise specified, all Federal Acquisition Regulation (FAR) and other directive material contained in FAC 2005-16 is effective March 22, 2007.

Dated: March 7, 2007.
Shay D. Assad,
Director, Defense Procurement and Acquisition Policy.

Dated: March 14, 2007.
Roger D. Waldron,
Acting Senior Procurement Executive, General Services Administration.

Dated: March 7, 2007.
Tom Luedtke,
Assistant Administrator for Procurement, National Aeronautics and Space Administration.

[FR Doc. 07-1359 Filed 3-21-07; 8:45 am]

BILLING CODE 6820-EP-S